DEPARTMENT OF ENERGY

Federal Energy Regulatory Commission

[Project No. 2533-062]

Brainerd Public Utilities; Notice of Application Tendered for Filing With the Commission and Establishing Procedural Schedule for Licensing and Deadline for Submission of Final Amendments

Take notice that the following hydroelectric application has been filed with the Commission and is available for public inspection.

a. Type of Application: New Major License.

b. Project No.: 2533-062.

c. Date Filed: March 1, 2021.

d. Applicant: Brainerd Public Utilities.

e. Name of Project: Brainerd Hydroelectric Project (Brainerd Project).

f. Location: The Brainerd Project is located on the Mississippi River, in the City of Brainerd, in Crow Wing County, Minnesota. The project does not occupy federal land.

g. Filed Pursuant to: Federal Power Act, 16 U.S.C. 791 (a)-825(r).

h. Applicant Contact: Scott Magnuson, Superintendent, Brainerd Public Utilities, 8027 Highland Scenic Road, P.O. Box 273, Brainerd, MN 56401. Phone (218) 825-3213 or email at smagnuson@bpu.org.

i. FERC Contact: Patrick Ely at (202) 502-8570 or email at patrick.ely@ferc.gov.

j. This application is not ready for environmental analysis at this time.

k. The Brainerd Project consists of: (1) A short left embankment; (2) a 256-foot-long powerhouse containing five turbine generators with a totaled installed capacity of 2.9425 megawatts (MW); (3) a 78-foot-long slide gate section; (4) a 207-foot-long bascule (crest) gate section; (5) a single 20-foot-wide steel Tainter gate; (6) a 200-foot-long right embankment; (7) a 236-foot-long, 2.4-kilovolt overhead transmission line; (8) a 25-foot-high dam; and (9) 2,500-acre impoundment.

The Brainerd Project is operated in a run-of-river mode with an estimated annual energy production of approximately 19,392 megawatt hours. Brainerd Public Utilities proposes to continue operating the project as a run-of-river facility and does not propose any new construction to the project. A license amendment allows for a sixth turbine generator unit, which would increase the total installed capacity to 3.5425 MW. The sixth turbine generator unit has not yet been installed. See 156 FERC ¶ 62,045 (2016).

l. A copy of the application can be viewed on the Commission's website at http://www.ferc.gov using the “eLibrary” link. Enter the docket number excluding the last three digits in the docket number field to access the document. At this time, the Commission has suspended access to the Commission's Public Reference Room due to the proclamation declaring a National Emergency concerning the Novel Coronavirus Disease (COVID-19) issued on March 13, 2020. For assistance, contact FERC at FERCOnlineSupport@ferc.gov or call toll-free, (866) 208-3676 or (202) 502-8659 (TTY).

m. You may also register online at http://www.ferc.gov/docs-filing/esubscription.asp to be notified via email of new filings and issuances related to this or other pending projects. For assistance, contact FERC Online Support.

n. Procedural schedule: The application will be processed according to the following preliminary schedule. Revisions to the schedule will be made as appropriate.

Milestone | Target date
Issue Deficiency Letter (if necessary) | April 2021.
Request Additional Information | April 2021.
Notice of Acceptance/Notice of Ready for Environmental Analysis | August 2021.

o. Final amendments to the application must be filed with the Commission no later than 30 days from the issuance date of the notice of ready for environmental analysis.

Dated: March 5, 2021.
Kimberly D. Bose,
Secretary.

[FR Doc. 2021-05064 Filed 3-10-21; 8:45 am]

BILLING CODE 6717-01-P